DEPARTMENT OF HEALTH AND HUMAN SERVICES

Centers for Disease Control and Prevention

[30Day-16-0824]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

BioSense (OMB Control No. 0920-0824, Expiration 11/30/2015)—Revision—Center for Surveillance, Epidemiology and Laboratory Services (CSELS), Centers for Disease Control and Prevention (CDC).

Background and Brief Description

The BioSense Program was created by congressional mandate as part of the Public Health Security and Bioterrorism Preparedness and Response Act of 2002 and was launched by the CDC in 2003. The original BioSense Program (BioSense 1.0) was intended to serve as a national level public health syndromic surveillance system for early detection and rapid assessment of potential bioterrorism-related illness and injury. In 2009, CDC began planning and developing the computing cloud-based BioSense 2.0 Platform. This cloud-based system would offer secure storage space for data and data sharing capacity for each state and local health department. Since August 2012, when CDC submitted a request to OMB for approval of a revision to the BioSense information collection request, HHS published new guidance on Meaningful Use of Electronic Health Records for syndromic surveillance. During this time, CDC also initiated its new CDC Surveillance Strategy. These actions provided new guidance for improvements to the BioSense Program, which resulted in new requirements for data submission to the BioSense Platform and new requests specified below.

CDC requests a three-year Revision approval for BioSense. This Revision includes new requests for approval to: (1) Change the title of the information collection request from BioSense to the National Syndromic Surveillance Program (NSSP); (2) receive data from additional state, local, and territorial health departments; (3) receive from state, local, and territorial health departments syndromic surveillance data submitted to those health departments from urgent care, ambulatory care and hospital inpatient settings (in addition to data from hospital emergency departments, included in the previously approved information collection request); and (4) receive from state, local, and territorial health departments additional syndromic surveillance data elements.

The total estimated number of burden hours has decreased since the previously approved information collection request because we inadvertently included estimates for the Department of Defense, Department of Veterans Affairs, and the two organizations that provide pharmacy data. We only included estimates for state, local, and territorial public health jurisdictions and the private sector laboratory company that provides laboratory data free of charge to CDC in this information collection request. There is no burden for the private sector laboratory company for recruitment, registration, and healthcare data collection. The private sector laboratory company chose their sharing permissions when they registered to use the system. The estimated annual burden is 39 hours.

Estimated Annualized Burden Hours
Type of respondents | Form name | Number of respondents | Number of responses per respondent | Average burden per response (in hrs.)
State, Local and Territorial Public Health Departments | Recruitment Information Collection | 20 | 1 | 1
State, Local and Territorial Public Health Departments | Registration Information Collection | 200 | 1 | 5/60
State, Local, and Territorial Public Health Departments | Healthcare Information Collection: Administrator Data Sharing Agreements/Permissions | 20 | 1 | 5/60

Leroy A. Richardson,
Chief, Information Collection Review Office, Office of Scientific Integrity, Office of the Associate Director for Science, Office of the Director, Centers for Disease Control and Prevention.

[FR Doc. 2015-27890 Filed 11-2-15; 8:45 am]

BILLING CODE 4163-18-P